Title 3—

The President

Proclamation 8590 of October 29, 2010

Military Family Month, 2010

By the President of the United States of America

A Proclamation

We owe each day of security and freedom that we enjoy to the members of our Armed Forces and their families. Behind our brave service men and women, there are family members and loved ones who share in their sacrifice and provide unending support. During Military Family Month, we celebrate the exceptional contributions of our military families, and we reaffirm our commitments to these selfless individuals who exemplify the highest principles of our Nation.

Across America, military families inspire us all with their courage, strength, and deep devotion to our country. They endure the challenges of multiple deployments and moves; spend holidays and life milestones apart; juggle everyday tasks while a spouse, parent, son, or daughter is in harm’s way; and honor the service of their loved ones and the memory of those lost.

Just as we hold a sacred trust to the extraordinary Americans willing to lay down their lives to protect us all, we also have a national commitment to support and engage our military families. They are proud to serve our country; yet, they face unique challenges because of that service. My Administration has taken important steps to help them shoulder their sacrifice, and we are working to ensure they have the resources to care for themselves and the tools to reach their dreams. We are working to improve family resilience, enhance the educational experience of military children, and ensure military spouses have employment and advancement opportunities, despite the relocations and deployment cycles of military life. Our historic investment to build a 21st-century Department of Veterans Affairs is helping to provide our veterans with the benefits and care they have earned. We are also standing with our service members and their families as they transition back into civilian life, providing counseling as well as job training and placement. And, through the Post-9/11 GI Bill, our veterans and their families can pursue the dream of higher education.

However, Government can only do so much. While only a fraction of Americans are in military families, all of us share in the responsibility of caring for our military families and veterans, and all sectors of our society are better off when we reach out and work together to support these patriots. By offering job opportunities and workplace flexibility, businesses and companies can benefit from the unparalleled dedication and skills of a service member or military spouse. Through coordination with local community groups, individuals and organizations can ensure our military families have the help they need and deserve when a loved one is deployed. Even the smallest actions by neighbors and friends send a large message of profound gratitude to the families who risk everything to see us safe and free.

As America asks ever more of military families, they have a right to expect more of us—it is our national challenge and moral obligation to uphold that promise. If we hold ourselves to the same high standard of excellence our military families live by every day, we will realize the vision of an America that supports and engages these heroes now and for decades to come.

NOW, THEREFORE, I, BARACK OBAMA, President of the United States of America, by virtue of the authority vested in me by the Constitution and the laws of the United States, do hereby proclaim November 2010 as Military Family Month. I call on all Americans to honor military families through private actions and public service for the tremendous contributions they make in support of our service members and our Nation.

IN WITNESS WHEREOF, I have hereunto set my hand this twenty-ninth day of October, in the year of our Lord two thousand ten, and of the Independence of the United States of America the two hundred and thirty-fifth.

[FR Doc. 2010-28061

Filed 11-3-10; 8:45 am]

Billing code 3195-W1-P